ENVIRONMENTAL PROTECTION AGENCY

[FRL-8518-3]

Meeting of the Local Government Advisory Committee

AGENCY: Environmental Protection Agency (EPA).

ACTION: Notice.

SUMMARY: The Local Government Advisory Committee (LGAC) and the Small Community Advisory Subcommittee (SCAS), and workgroups will meet on February 5-6, 2008 in Washington, DC. The Committee and Subcommittee meetings will be located at The Madison, at 1177 Fifteenth Street, NW., Washington, DC 20005, in conference rooms Vernon A & B. The focus areas of the meeting will be Green Buildings, Small Communities, and other environmental issues potentially affecting local governments.

This is an open meeting and all interested persons are invited to attend. The Committee will hear comments from the public between 11:30 a.m. and 12 p.m. on Tuesday, February 5, 2008. Each individual or organization wishing to address the LGAC meeting will be allowed a maximum of five minutes to present their point of view. Also, written comments should be submitted electronically to Eargle.Frances@epa.gov. Please contact the Designated Federal Officer (DFO) at the number listed below to schedule agenda time. Time will be allotted on a first come, first serve basis, and the total period for comments may be extended, if the number of requests for appearances require it.

ADDRESSES: The LGAC meeting will be held at The Madison, a Loews Hotel, located at 1177 Fifteenth St., NW. on February 5-6 in conference rooms Vernon A & B.

The Committee's meeting minutes and Subcommittee summary notes will be available after the meeting online at http://www.epa.gov/ocir/scas and can be obtained by written request to the DFO.

FOR FURTHER INFORMATION CONTACT: Frances Eargle, DFO for the Local Government Advisory Committee (LGAC), at (202) 564-3115 or e-mail at Eargle.Frances@epa.gov. For those interested in participating in the Small Community Subcommittee meeting, contact Anna Raymond at (202) 564-2663 or by e-mail at Raymond.Anna@epa.gov.

Information on Services for Those With Disabilities: For information on access or services for individuals with disabilities, please contact Frances Eargle at (202) 564-3115 or Eargle.Frances@epa.gov. To request accommodation of a disability, please request it 10 days prior to the meeting, to give EPA as much time as possible to process your request.

Dated: January 10, 2008.
Anna Raymond,
Designated Federal Officer, Small Community Advisory Subcommittee.

[FR Doc. E8-991 Filed 1-18-08; 8:45 am]

BILLING CODE 6560-50-P